DEPARTMENT OF HEALTH AND HUMAN SERVICES

Centers for Disease Control and Prevention

[30Day-22-1354]

Agency Forms Undergoing Paperwork Reduction Act Review

In accordance with the Paperwork Reduction Act of 1995, the Centers for Disease Control and Prevention (CDC) has submitted the information collection request titled “Airline and Vessel and Traveler Information Collection (42 CFR part 71.4(d))” to the Office of Management and Budget (OMB) for review and approval. CDC previously published a “Proposed Data Collection Submitted for Public Comment and Recommendations” notice on November 22, 2021] to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Airline and Vessel and Traveler Information Collection (42 CFR part 71.4(d)) (OMB Control No. 0920-1354, Exp. 5/31/2022)—Extension—National Center for Emerging Zoonotic and Infectious Diseases (NCEZID), Centers for Disease Control and Prevention (CDC).

Background and Brief Description

The Centers for Disease Control and Prevention (CDC), a component of the Department of Health and Human Services (HHS), has the regulatory authority to collect contact information from airlines under 42 CFR 71. CDC exercises this authority to ensure that public health agencies across the United States can provide appropriate public health follow-up to travelers who may be ill or exposed to a communicable disease.

CDC announces the requirement for all airlines and operators to collect and/or maintain passenger and crew contact information (designated information), and for passengers to provide such information to airlines and operators, on flights arriving into the United States. This includes flights with intermediate stops in the United States between the flight's foreign point of origin and the final destination. Unless otherwise transmitted to the U.S. Government via established U.S. Department of Homeland Security (DHS) data systems, airlines and operators are required to retain the designated information for 30 days and transmit it within 24 hours of a request from CDC. Accurate and complete contact information is needed to protect the health of travelers and U.S. communities and for the purposes of public health follow-up.

CDC seeks an Extension for Airline and Vessel and Traveler Information Collection (42 CFR part 71.4(d)) (OMB Control No. 0920-1354) and requests approval for an estimated 6,191,023 burden hours.

Estimated Annualized Burden Hours
Type of respondent | Form name | Number of respondents | Number of responses per respondent | Average burden per response (in hours)
Passenger providing information to airline staff (call centers) | Passenger “Acknowledgement” and collection of information from passengers | 12,300,000 | 1 | 2/60
Passenger providing information to airline staff (airport check-in or gate agent) | Passenger “Acknowledgement” and collection of information from passengers | 6,150,000 | 1 | 2/60
Passenger providing information to travel agents | Passenger “Acknowledgement” and collection of information from passengers | 44,280,000 | 1 | 2/60
Passenger entering information electronically | Passenger “Acknowledgement” and collection of information from passengers | 60,270,000 | 1 | 2/60
Airline staff (call centers) | Passenger “Acknowledgement” and collection of information from passengers | 12,300,000 | 1 | 2/60
Airline staff (airport check-in or gate agent) | Passenger “Acknowledgement” and collection of information from passengers | 6,150,000 | 1 | 2/60
Travel Agents | Passenger “Acknowledgement” and collection of information from passengers | 44,280,000 | 1 | 2/60
Database administrator—Set up SAMS account | No Form | 22 | 1 | 5/60
Database administrator—Transmit JSON or .cvs data via SAMS or SFTP | No Form | 25 | 5 | 10/60

Jeffrey M. Zirger,
Lead, Information Collection Review Office, Office of Scientific Integrity, Office of Science, Centers for Disease Control and Prevention.

[FR Doc. 2022-11324 Filed 5-25-22; 8:45 am]

BILLING CODE 4163-18-P